DEPARTMENT OF ENERGY

Federal Energy Regulatory Commission

[Docket No. ER00-2775-001, et al.]

MidAmerican Energy Company, et al.; Electric Rate and Corporate Regulation Filings

September 7, 2000.

Take notice that the following filings have been made with the Commission:

1. MidAmerican Energy Company

[Docket No. ER00-2775-001]

Take notice that on September 1, 2000, MidAmerican Energy Company (MidAmerican), 666 Grand Avenue, Des Moines, Iowa 50309, tendered for filing with the Commission an Electric Interchange and Interconnection Agreement dated January 24, 1994, modified by way of a First Amendment to Electric Interchange and Interconnection Agreement dated April 26, 2000, entered into with Indianola Waterworks and Electric Light and Power Board of Trustees, pursuant to MidAmerican's Rate Schedule for Power Sales, FERC Electric Tariff, Original Volume No. 8.

MidAmerican requested and the Director, Division of Tariffs and Rates—Central, approved a June 9, 2000 effective date for the Electric Interchange and Interconnection Agreement, as amended, subject to MidAmerican making a compliance filing to conform MidAmerican's previous filing in this matter dated June 29, 2000 to be consistent with the necessary filing rate schedule designations as required by Order 614, FERC Stats. & Regs. ¶ 31,096 (2000) and Southwest Power Pool Inc., 92 FERC ¶61,109 (2000). MidAmerican has served a copy of the compliance filing on the Indianola Waterworks and Electric Light and Power Board of Trustees, the Iowa Utilities Board, the Illinois Commerce Commission and the South Dakota Public Utilities Commission.

Comment date: September 22, 2000, in accordance with Standard Paragraph E at the end of this notice.

2. Calvert Cliffs Nuclear Power Plant, Inc.

[Docket No. ER00-2917-001]

Take notice that on September 1, 2000, Calvert Cliffs Nuclear Power Plant, Inc. tendered for filing a redesignated FERC Electric Tariff, designated in accordance with Order No. 614 and in compliance with the letter order issued in this docket on August 3, 2000.

Comment date: September 22, 2000, in accordance with Standard Paragraph E at the end of this notice.

3. Constellation Power Source Generation, Inc.

[Docket No. ER00-2918-001]

Take notice that on September 1, 2000, Constellation Power Source Generation, Inc. submitted for filing a redesignated FERC Electric Tariff, designated in accordance with Order No. 614 and in compliance with the letter order issued in this docket on July 24, 2000.

Comment date: September 22, 2000, in accordance with Standard Paragraph E at the end of this notice.

4. Constellation Power Source Generation, Inc.

[Docket Nos. ER00-3040-001; ER00-3041-001; ER00-3042-001; ER00-3043-001; ER00-3044-001; ER00-3045-001; ER00-3046-001; ER00-3047-001; ER00-3048-001; ER00-3049-001]

Take notice that on September 1, 2000, Constellation Power Source Generation, Inc., tendered for filing, in compliance with the letter orders issued by the Commission in these dockets on July 24, 2000 and August 3, 2000, redesignated and formatted rate schedules to comply with Order No. 614.

Comment date: September 22, 2000, in accordance with Standard Paragraph E at the end of this notice.

5. Duquesne Light Company

[Docket No. ER00-3580-000]

Take notice that on September 1, 2000, Duquesne Light Company (DLC), tendered for filing a Non-Firm Point-to-Point Transmission Service Agreement dated August 31, 2000 with Alliance Energy Services Partnership under DLC's Open Access Transmission Tariff (Tariff). The Service Agreement adds Alliance Energy Services Partnership as a customer under the Tariff.

DLC requests an effective date of August 31, 2000 for the Service Agreement.

Comment date: September 22, 2000, in accordance with Standard Paragraph E at the end of this notice.

6. Duquesne Light Company

[Docket No. ER00-3581-000]

Take notice that on September 1, 2000, Duquesne Light Company (DLC), tendered for filing a Firm Point-to-Point Transmission Service Agreement dated August 31, 2000 with Alliance Energy Services Partnership under DLC's Open Access Transmission Tariff (Tariff). The Service Agreement adds Alliance Energy Services Partnership as a customer under the Tariff.

DLC requests an effective date of August 31, 2000 for the Service Agreement.

Comment date: September 22, 2000, in accordance with Standard Paragraph E at the end of this notice.

7. Arizona Independent Scheduling Administrator Association

[Docket No. ER00-3583-000]

Take notice that on September 1, 2000, the Arizona Independent Scheduling Administrator Association (Arizona ISA), tendered for filing pursuant to Section 205 of the Federal Power Act an electric tariff which describes the terms of service pursuant to which retail competition will be implemented throughout much of the State of Arizona. The tariff consists of: (1) The Protocols Manual; (2) a form agreement to be executed by the Arizona ISA and each Transmission Provider; (3) a form agreement to be executed by the Arizona ISA, each Transmission Provider and each Scheduling Coordinator active in that Transmission Provider's service territory; and (4) a rate schedule describing the way in which the Arizona ISA will recover its costs.

In addition the filing contains certificates of concurrence being submitted by Arizona Public Service Company and Tucson Electric Power Company, the two Transmission Providers in the State of Arizona that are FERC jurisdictional, and that have open access transmission tariffs on file with the Commission.

The Arizona ISA requests that the tariff become effective on November 1, 2000.

The Arizona ISA served copies of the entire filing upon the Arizona Corporation Commission, and via email sent electronic copies of the tariff and certain supporting documents upon those persons listed in the Certificate of Service submitted with the filing.

Comment date: September 22, 2000, in accordance with Standard Paragraph E at the end of this notice.

8. Tucson Electric Power Company

[Docket No. ER00-3584-000]

Take notice that on August 31, 2000, Tucson Electric Power Company tendered for filing one (1) umbrella service agreement (for short-term firm service) and one (1) service agreement (for non-firm service) pursuant to Part II of Tucson's Open Access Transmission Tariff, which was filed in Docket No. ER00-771-000.

The details of the service agreements are as follows:

(1) Umbrella Agreement for Short-Term Firm Point-to-Point Transmission Service dated as of August 16, 2000 by and between Tucson Electric Power Company and Entergy Power Marketing Corp.—FERC Electric Tariff Vol. No. 2, Service Agreement No. 126. No service has commenced at this time.

(2) Form of Service Agreement for Non-Firm Point-to Point Transmission Service dated as August 16, 2000 by and between Tucson Electric Power Company and Entergy Power Marketing Corp.—FERC Electric Tariff Vol. No. 2, Service Agreement No. 127. No service has commenced at this time.

Comment date: September 22, 2000, in accordance with Standard Paragraph E at the end of this notice.

9. Virginia Electric and Power Company

[Docket No. ER00-3585-000]

Take notice that on September 1, 2000, Virginia Electric and Power Company, doing business as Virginia Power (the Company), tendered for filing fifteen letter agreements with the Virginia Electric Municipal Association No. 1 (VMEA). The letter agreements, dated April 15, 1998, add facilities to the Agreement for the Purchase of Electricity for Resale, Rate Schedule FERC No. 109, with VMEA by establishing the terms and conditions for additional metering facilities at various delivery points of VMEA member municipalities, including the Towns of Blackstone, Culpeper, Elkton and Wakefield and the Cities of Franklin, Harrisonburg and Manassas.

Copies of the filing were served upon the VMEA, the VMEA member municipalities listed above and the Virginia State Corporation Commission.

Comment date: September 22, 2000, in accordance with Standard Paragraph E at the end of this notice.

10. NorthWestern Public Service, a division of NorthWestern Corporation

[Docket No. ER00-3587-000]

Take notice that on September 1, 2000, NorthWestern Public Service (NorthWestern), division of NorthWestern Corporation, tendered for filing revised tariff sheets, pursuant to The Commission's Order Accepting for Filing Tariff Amendments, dated August 1, 2000 (the Order) in this dockets. As directed by the Order, the revised tariff sheets state that NorthWestern's open access transmission tariff incorporates the Mid-Continent Area Power Pool's revised line loading relief procedures, as such procedures are described in the Order.

Comment date: September 22, 2000, in accordance with Standard Paragraph E at the end of this notice.

11. Allegheny Energy Service Corporation, on behalf of Monongahela Power Company, The Potomac Edison Company, and West Penn Power Company (Allegheny Power)

[Docket No. ER00-3588-000]

Take notice that on September 1, 2000, Allegheny Energy Service Corporation on behalf of Monongahela Power Company, The Potomac Edison Company, and West Penn Power Company (Allegheny Power), tendered for filing an Interconnection Agreement (Agreement) with Allegheny Energy Supply Company, LLC.

The proposed effective date under the Agreement is September 1, 2000 or a date ordered by the Commission.

Copies of the filing have been provided to the Public Utilities Commission of Ohio, the Pennsylvania Public Utility Commission, the Maryland Public Service Commission, the Virginia State Corporation Commission, and the West Virginia Public Service Commission.

Comment date: September 22, 2000, in accordance with Standard Paragraph E at the end of this notice.

12. Public Service Electric and Gas Company

[Docket No. ER00-3589-000]

Take notice that on September 1, 2000, Public Service Electric and Gas Company (PSE&G), tendered for filing a change in rate schedule to amend the Firm Capacity Agreement between PSE&G and Orange and Rockland Utilities Inc.

This amendment will become effective on November 1, 2000.

Comment date: September 22, 2000, in accordance with Standard Paragraph E at the end of this notice.

13. Alcoa Power Generating, Inc.

[Docket No. ER00-3590-000]

Take notice that on September 1, 2000, Alcoa Power Generating, Inc. (APGI), tendered for filing umbrella service agreements between: (1) APGI and Aquila Energy Marketing Corporation for Firm and Non-Firm Point-to-Point Transmission Service; and (2) APGI and The Cincinnati Gas & Electric Company, PSI Energy, Inc. (collectively Cinergy Operating Companies), and Cinergy Services, Inc., as an agent for and on behalf of the Cinergy Operating Companies (Cinergy) for Firm Point-to-Point Transmission Service, under APGI's FERC Electric Tariff Original Volume No. 3 — Open Access Transmission Tariff (OATT).

The service agreement provides for transmission service under APGI's OATT and is proposed to be effective September 1, 2000, the date of this filing.

Comment date: September 22, 2000, in accordance with Standard Paragraph E at the end of this notice.

14. New York Independent System Operator, Inc.

[Docket No. ER00-3591-000]

Take notice that on September 1, 2000, the New York Independent System Operator, Inc., filed a combined compliance filing and report in the above-captioned proceeding. The filing includes certain proposed tariff revisions which the NYISO requests become effective on September 1, 2000.

A copy of this filing was served upon all parties in the above captioned proceedings.

Comment date: September 22, 2000, in accordance with Standard Paragraph E at the end of this notice.

15. MidAmerican Energy Company

[Dockets Nos. ER96-719-000 and ER00-2051-000]

Take notice that on August 28, 2000, MidAmerican Energy Company (MidAmerican) filed revisions to its Rate Schedule for Power Sales, FERC Electric Rate Schedule, Original Volume No. 5 (FERC Docket No. ER96-719-000; amended in FERC Docket No. ER00-2051-000).

Comment date: September 18, 2000, in accordance with Standard Paragraph E at the end of this notice.

16. Entergy Services, Inc.

[Docket Nos. ER99-231-001; ER99-232-001; and ER99-487-001]

Sam Rayburn G&T Electric Cooperative, Inc. v. Entergy Services, Inc.; Entergy Gulf States, Inc.

[Docket Nos. EL99-6-001]

Take notice that on August 31, 2000, Entergy Services, Inc. (Entergy Services), on behalf of Entergy Gulf States, Inc., tendered for filing its compliance filing in the above-captioned dockets as required by the Commission's August 21, 2000 letter order.

The compliance filing submits a clean version of the Network Integration Transmission Service Agreement and Attachment A (collectively, the NITSA) between Entergy and SRG&T that reflects the approved settlement.

Comment date: October 10, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

Linwood A. Watson, Jr.,
Acting Secretary.

[FR Doc. 00-23591 Filed 9-13-00; 8:45 am]

BILLING CODE 6717-01-P